DEPARTMENT OF HOMELAND SECURITY

Coast Guard

33 CFR Part 165

[Docket Number USCG-2021-0808]

RIN 1625-AA08

Safety Zone; Tchefuncte River, Madisonville, LA; Correction

AGENCY: Coast Guard, Department of Homeland Security (DHS).

ACTION: Notice of proposed rulemaking; correction.

SUMMARY: The Coast Guard published a notice of proposed rulemaking (NPRM) in the Federal Register on November 10, 2021, titled “Safety Zone; Tchefuncte River, Madisonville, LA.” The document contained incorrect public comment period which closes after the date of the event. The comment period should have been 15 instead of 30 days.

DATES: The NPRM published on November 10, 2021, at 86 FR 62500, is corrected as of November 15, 2021.

ADDRESSES: You may submit comments identified by docket number USCG-2021-0808 using the Federal Decision Making Portal at https://www.regulations.gov. See the “Public Participation and Request for Comments” portion of the SUPPLEMENTARY INFORMATION section in the NPRM published on November 10, 2021, at 86 FR 62500, for further instructions on submitting comments.

FOR FURTHER INFORMATION CONTACT: If you have questions about this document, call or email Lieutenant Commander William A. Stewart, Waterways Management Division Chief, U.S. Coast Guard; telephone 504-365-2246, email William.A.Stewart@uscg.mil.

SUPPLEMENTARY INFORMATION: The document published on November 10, 2021, at 86 FR 62500, contains an incorrect public comment period end date which closes on December 10, 2021, after the date of the event. The comment period should have been 15 instead of 30 days with an end date of November 22, 2021.

Correction

In the Federal Register of November 10, 2021, in FR Doc. 2021-24588, beginning on page 62500, the following corrections are made:

1. On page 62500, in the third column, in the DATES section, remove the text, “December 10, 2021” and add in its place the text “November 22, 2021”.

Dated: November 10, 2021.
M.T. Cunningham,
Chief, Office of Regulations and Administrative Law.

[FR Doc. 2021-24946 Filed 11-12-21; 8:45 am]

BILLING CODE 9110-04-P